Title 3—

The President

Proclamation 9250 of April 1, 2015

World Autism Awareness Day, 2015

By the President of the United States of America

A Proclamation

On World Autism Awareness Day, our Nation recognizes all those around the globe who live on the autism spectrum. We celebrate the countless ways they strengthen our communities and enrich our world—and we reaffirm their fundamental rights to participate fully in society, live with respect, and achieve their greatest potential.

In the United States, millions of adults and young people live with autism spectrum disorder, including 1 out of every 68 children. They are our colleagues, classmates, friends, and loved ones, and they each have something to contribute to the American story. In large cities and small towns, individuals with autism live independent and productive lives, and our Nation is better because of their unique talents and perspectives. Their example reminds us that all people have inherent dignity and worth, and that everyone deserves a fair shot at opportunity.

My Administration is committed to helping Americans with autism fulfill their potential by ensuring access to the resources and programs they need. The Affordable Care Act prohibits companies from denying health insurance because of pre-existing conditions such as autism, and the law also requires most insurance plans to cover preventive services—including autism and developmental screenings for young children—without copays. Last year, I was proud to sign the Autism CARES Act of 2014, which bolstered training and educational opportunities for professionals serving children or adults on the autism spectrum. And as part of the BRAIN Initiative, we continue to invest in innovative research that aims to revolutionize our understanding of conditions like autism and improve the lives of all who live with them.

The greatness of our Nation lies in the diversity of our people. When more Americans are able to pursue their full measure of happiness, it makes our Union more perfect and uplifts us all. Today, let us honor advocates, professionals, family members, and all who work to build brighter tomorrows alongside those with autism. Together, we can create a world free of barriers to inclusion and full of understanding and acceptance of the differences that make us strong.

NOW, THEREFORE, I, BARACK OBAMA, President of the United States of America, by virtue of the authority vested in me by the Constitution and the laws of the United States, do hereby proclaim April 2, 2015, World Autism Awareness Day. I encourage all Americans to learn more about autism and what they can do to support individuals on the autism spectrum and their families.

IN WITNESS WHEREOF, I have hereunto set my hand this first day of April, in the year of our Lord two thousand fifteen, and of the Independence of the United States of America the two hundred and thirty-ninth.

[FR Doc. 2015-08089

Filed 4-6-15; 8:45 am]

Billing code 3295-F5